SMALL BUSINESS ADMINISTRATION

Nondiscrimination on the Basis of Sex in Education Programs or Activities Receiving Federal Financial Assistance

AGENCY: U.S. Small Business Administration (SBA).

ACTION: Notice of the U.S. Small Business Administration Financial Assistance Programs Subject to Title IX of the Education Amendments of 1972, as amended.

SUMMARY: In accordance with Subpart F of the final common rule for the enforcement of Title IX of the Education Amendments of 1972, as amended (“Title IX”), this notice lists federal financial assistance administered by the U.S. SBA that is covered by Title IX. Title IX prohibits recipients of federal financial assistance from discriminating on the basis of sex in education programs or activities. Subpart F of the Title IX common rule requires each federal agency that awards federal financial assistance to publish in the Federal Register a notice of the federal financial assistance covered by the Title IX regulations within sixty (60) days after the effective date of the final common rule. The final common rule for the enforcement of Title IX was published in the Federal Register by the twenty-one (21) federal agencies, including SBA, on August 30, 2000 (65 FR 52857-52895). SBA's portion of the final common rule will be codified at 13 CFR Part 113.

SUPPLEMENTARY INFORMATION: Title IX prohibits recipients of federal financial assistance from discriminating on the basis of sex in educational programs or activities. Specifically, the statute that “[n]o person in the United States shall, on the basis of sex, be excluded from participation in, be denied the benefits of, or be subjected to discrimination under any education program or activity receiving Federal financial assistance,” with specific exceptions for various entities, programs, and activities. 20 U.S.C. 1681(a). Title IX and the Title IX common rule prohibit discrimination on the basis of sex in the operation of, and the provision or denial of benefits by, education programs or activities conducted not only by educational institutions but by other entities as well, including, for example, SBA-funded small business development centers and for profit and nonprofit organizations that receive SBA disaster loans.

List of Federal Financial Assistance Administered by the U.S. Small Business Administration to Which Title IX Applies

Note: All recipients of federal financial assistance from SBA are subject to Title IX, but Title IX's anti-discrimination prohibitions are limited to the educational components of the recipient's program or activity, if any.

Failure to list a type of federal assistance below shall not mean, if Title IX is otherwise applicable, that a program or activity is not covered by Title IX.

Information on SBA federal financial assistance can be found by consulting the Catalog of Domestic Financial Assistance (CFDA) at http://www.cfda.gov. If using the Internet site, please select “Search Catalog,” select “Browse the Catalog—By Agency,” and then click on “Small Business Administration.” Catalog information is also available by calling, toll free, 1-800-699-8331 or by writing to: Federal Domestic Assistance Catalog Staff (MVS), General Services Administration, Reporters Building, Room 101, 300 7th Street, SW, Washington, DC 20407.

The following types of federal financial assistance administered through SBA are listed in the CFDA. For further information on any of these types of federal financial assistance, please consult the CFDA.

Economic Injury Disaster Loans

Business Development Assistance to Small Business

8(a) Business Development

Management and Technical Assistance for Socially and Economically Disadvantaged Businesses

Physical Disaster Loans

Procurement Assistance to Small Businesses

Small Business Investment Companies

Bond Guarantees for Surety Companies

Service Corps of Retired Executives Association

Small Business Development Centers

Certified Development Company Loans (504 Loans)

Women's Business Ownership Assistance

Veterans Entrepreneurial Training and Counseling

Microloan Demonstration Program

Office of Small Disadvantaged Business Certification and Eligibility

(Authority: 28 U.S.C. 1681-1688)
Dated: November 28, 2000.
James A. Westbrooks,
Acting Assistant Administrator, Office of Equal Employment Opportunity and Civil Rights Compliance.

[FR Doc. 00-30780 Filed 12-1-00; 8:45 am]

BILLING CODE 8025-01-U